DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Survey of Local Government Finances (School Systems).

Form Number(s): F-33, F-33-I, F-33-L1, F-33-L2, F-33-L3.

OMB Control Number: 0607-0700.

Type of Request: Extension of a currently approved collection.

Burden Hours: 4,032.

Number of Respondents: 3,249.

Average Hours per Response: 1 hour and 15 minutes.

Needs and Uses: The U.S. Census Bureau requests an extension of the current expiration date of the Annual Survey of Local Government Finances (School Systems) to ensure accurate collection of information about public school finances.

The Census Bureau's collection of school district finance data and associated publications are the most comprehensive sources for pre-kindergarten through grade 12 finance data. The data are collected from the universe of school districts using uniform definitions and concepts of revenue, expenditure, debt, and assets. This effort is part of the Census Bureau's Annual Survey of Government Finance (OMB No. 0607-0585). Data collected from cities, counties, States, and special district governments are combined with data collected from local school systems to produce State and national totals of government spending. Local school system spending comprises a significant portion of total government spending. In 2006, public elementary-secondary expenditures accounted for nearly 30 percent of total local government spending.

This comprehensive, ongoing, time series collection of local education agency finances maintains historical continuity in the State and local government statistics community. In addition to the State and local government statistics historical significance, this collection of data has gained added importance within the area of education statistics since the reauthorization of the Elementary and Secondary Education Act (ESEA) by the No Child Left Behind Act (NCLB). The increased focus on schools has led to a demand for data reflecting student performance, graduation rates, and school finance policy—all of which require the collection and use of this local education finance data collection. State legislatures, local leaders, university researchers, and parents increasingly rely on data to make substantive decisions about education. School district finance is a vital sector of the education data spectrum used by stakeholders to form policy and to develop new education strategies.

The education finance data collected and processed by the Census Bureau are an essential component of the government finances program and provide unique products for education and finance data user groups. The Bureau of Economic Analysis (BEA) uses most of the items on Form F-33 to develop figures for the Gross Domestic Product. Reported F-33 data items specifically contribute to the estimates for National Income and Product Accounts (NIPA), and the Input-Output accounts (I-O), and gross domestic investments. BEA also uses the data to assess other public fiscal spending trends and events.

The Census Bureau's government finances program has made possible the dissemination of comprehensive and comparable public fiscal data since 1902. School finance data, which comprise nearly 30 percent of all local government general expenditures, are currently incorporated into the local government statistics released in the Annual Survey of Government Finance. The Census Bureau expects to release school finance data as part of its 2007 Census of Governments products. This table package contains benchmark statistics on public revenue, expenditure, debt, and assets. They are widely used by economists, legislators, social and political scientists, and government administrators.

The Census Bureau makes available a detailed account for all school systems on files available from its Internet Web site. That Web site currently contains data files and statistical tables for the 1992 through 2006 fiscal year surveys. Historical files and publications prior to 1992 are also available upon request for data users engaged in longitudinal studies. In addition to numerous academic researchers who use the F-33 products, staff receive inquiries from State government officials, legislatures, public policy analysts, local school officials, non-profit organizations, and various Federal agencies.

The U.S. Department of Education's National Center for Education Statistics (NCES) jointly conducts this survey annually as part of the Common Core of Data (CCD) program. The education finance data collected by the Census Bureau are the sole source of school district fiscal information for the CCD. NCES data users utilize electronic tools to search CCD databases for detailed fiscal and non-fiscal variables. Additionally, the NCES uses the F-33 education finance files to publish annual reports on the state of education.

Affected Public: State, local or Tribal government.

Frequency: Annually.

Respondent's Obligation: Voluntary.

Legal Authority: Title 13 U.S.C., Sections 161 and 182.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 12, 2009.
Glenna Mickelson,
Management Analyst, Office of the Chief Information Officer.

[FR Doc. E9-11439 Filed 5-14-09; 8:45 am]

BILLING CODE 3510-07-P